DEPARTMENT OF DEFENSE

Office of the Secretary

[Docket ID DoD-2021-OS-0011]

Proposed Collection; Comment Request

AGENCY: The Defense Civilian Personnel Advisory Service (DCPAS), Department of Defense (DoD).

ACTION: Information collection notice.

SUMMARY: In compliance with the Paperwork Reduction Act of 1995, the Defense Civilian Personnel Advisory Service (DCPAS) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 17, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to The Defense Civilian Personnel Advisory Service (DCPAS), 4800 Mark Center Drive, Suite 06E22, Alexandria, VA 22350, Kisha Wilkins, 571-372-2238.

SUPPLEMENTARY INFORMATION: Title; Associated Form; and OMB Number: DoD Telework Agreement; DD Form 2946; 0704-XXXX.

Needs and Uses: Information is collected to register individuals as participants in the DoD alternative workplace program; to manage and document the duties of participants; and to fund, evaluate and report on program activity. All employees who are authorized to telework shall complete a DD Form 2946. The DD Form 2946 shall be signed and dated by the employee and supervisor and maintained by the employee's supervisor. Components are encouraged to include a DD Form 2946 in the new employee on-boarding packages for those employees occupying telework eligible positions to ensure that they are aware of their telework responsibilities, should telework be offered or requested.

Affected Public: Individuals or households.

Annual Burden Hours: 186,667.

Number of Respondents: 560,000.

Responses per Respondent: 1.

Annual Responses: 560,000.

Average Burden per Response: 20 minutes.

Frequency: On occasion.

Respondents are individuals participating in the DoD alternative workplace program (telework).

Dated: March 12, 2021.
Aaron T. Siegel,
Alternate OSD Federal Register Liaison Officer, Department of Defense.

[FR Doc. 2021-05578 Filed 3-17-21; 8:45 am]

BILLING CODE 5001-06-P